DEPARTMENT OF AGRICULTURE

Agricultural Marketing Service

[Doc. No. TB-04-11]

Burley Tobacco Advisory Committee; Open Meeting

AGENCY: Agricultural Marketing Service, USDA.

ACTION: Notice of advisory committee meeting.

SUMMARY: In accordance with the Federal Advisory Committee Act (5 U.S.C. App. II) announcement is made of a forthcoming meeting of the Burley Tobacco Advisory Committee.

DATES: The meeting will be held on September 16, 2004, at 9 a.m.

ADDRESSES: The meeting will be held at the Ramada Inn, 2143 North Broadway, Lexington, Kentucky 40504.

FOR FURTHER INFORMATION CONTACT: John P. Duncan III, Deputy Administrator, Tobacco Programs, AMS, USDA, telephone number (202) 205-0567 or fax (202) 205-0235.

SUPPLEMENTARY INFORMATION: The purpose of the meeting is to recommend opening dates and selling schedules, and discuss other related issues for the 2004-2005 burley tobacco marketing season.

The meeting is open to the public. Persons, other than members, who wish to address the Committee at the meeting should contact John P. Duncan III, Deputy Administrator, Tobacco Programs, AMS, USDA, STOP 0280, 1400 Independence Avenue, SW., Washington, DC 20250-0280, prior to the meeting. Written statements may be submitted to the Committee before, at or after the meeting. If you need any accommodations to participate in the meeting, please contact the Tobacco Programs at (202) 205-0567 by September 10, 2004, and inform us of your needs.

Dated: August 2, 2004.
A.J. Yates,
Administrator, Agricultural Marketing Service.

[FR Doc. 04-18088 Filed 8-6-04; 8:45 am]

BILLING CODE 3410-02-P